DEPARTMENT OF THE TREASURY

Treasury Order 180-01; Financial Crimes Enforcement Network

September 26, 2002.

1. By virtue of the USA Patriot Act of 2001 (Pub. L. No. 107-56, Title III, Subtitle B, Section 361(a)(2), 115 Stat. 272, 329-332), and by the authority vested in me as Secretary of the Treasury, it is hereby ordered that the Financial Crimes Enforcement Network (“FinCEN” or the Bureau”) is re-established as a bureau within the Department. The head of the Bureau is the Director, Financial Crimes Enforcement Network, who shall perform duties under the general supervision of the Secretary and under the direct supervision of the Under Secretary (Enforcement) or the designee of the Under Secretary.

2. Mission. The mission of FinCEN shall be to fulfill the duties and powers assigned to the Director, Financial Crimes Enforcement Network, in the USA Patriot Act of 2001, codified in relevant part at 31 U.S.C. 310(b), to support law enforcement efforts and foster interagency and global cooperation against domestic and international financial crimes, and to provide U.S. policy makers with strategic analyses of domestic and worldwide trends and patterns. FinCEN works toward those ends through information collection, analysis, and sharing, as well as technological assistance and innovative, cost-effective implementation of the Bank Secrecy Act and other Treasury authorities assigned to FinCEN.

3. Duties and Powers. In addition to the duties and powers established by the USA Patriot Act of 2001, codified in relevant part at 31 U.S.C. 310(b), the Director of FinCEN is authorized to issue regulations and perform other actions for the purposes of carrying out the functions, powers, and duties delegated to the Director. The Director is hereby delegated authority to:

a. Take all necessary and appropriate actions to implement and administer the provisions of Titles I and II of Public Law 91-508, as amended, (the “Bank Secrecy Act”), which is codified at 12 U.S.C. 1829b, 12 U.S.C. 1951-59, and 31 U.S.C. 5311 et seq., including, but not limited to, the promulgation and amendment of regulations and the assessment of penalties;

b. Exercise authority for enforcement of and compliance with the regulations at 31 CFR part 103 with respect to the activities of agencies exercising authority thereunder that has been redelegated to such agencies by FinCEN under paragraph 9 infra; and

c. Design and implement programs of public outreach and communication to the financial community and the general public relating to the functions of the Bureau and the Department's efforts to prevent and detect money laundering and other financial crime.

4. Authorities. The Director of FinCEN shall possess full authority, powers, and duties to administer the affairs of and to perform the functions of FinCEN, including, without limitation, all management and administrative authorities similarly granted to Bureau Heads or Heads of Bureaus in Treasury Orders and Treasury Directives. The Director shall also possess authority to request one or more other government agencies to provide administrative support to the Bureau, in the name of the Bureau and under policies adopted by the Director.

5. Transfer of Records and Property. There shall be transferred to the Bureau such records and property to be determined by the Assistant Secretary (Management)/CFO, in consultation with the Under Secretary (Enforcement) and the Director, as are necessary or appropriate to carry out the purposes of this Order.

6. Personnel. FinCEN's staff shall be comprised of Treasury Department employees as well as other personnel detailed to FinCEN.

7. Chief Counsel. The Office of Chief Counsel of FinCEN shall be a part of the Legal Division, under the supervision of the General Counsel.

8. Regulations.

a. All regulations prescribed, all rules and instructions issued, and all forms adopted for the administration and enforcement of the Bank Secrecy Act, that were in effect or in use on the date of enactment of the USA Patriot Act of 2001, shall continue in effect as regulations, rules, instructions, and forms of the Bureau until superseded or revised.

b. All regulations prescribed, all rules and instructions issued, and all forms adopted for the administration of FinCEN prior to it becoming a bureau, that were in effect or in use on the date of enactment of the USA Patriot Act of 2001, shall continue in effect as regulations, rules, instructions, and forms of the Bureau until superseded or revised.

c. The terms “Director, Financial Crimes Enforcement Network,” “Director, Office of Financial Enforcement,” and “Assistant Secretary (Enforcement)” wherever used in regulations, rules, instructions, and forms issued or adopted for the administration and enforcement of the Bank Secrecy Act that were in effect or in use on the date of enactment of the USA Patriot Act of 2001, shall be held to mean the Director of FinCEN.

d. All regulations issued or amended by the Director of FinCEN shall be subject to approval by the Under Secretary (Enforcement) or a designee of the Under Secretary. The issuance or amendment of regulations by the Director shall be subject to Treasury Directive 28-01, Preparation and Review of Regulations.”

9. Redelegation.

a. The Director of FinCEN may redelegate any authority vested under this Order to an officer or employee of the Treasury Department, including its bureaus.

b. The Director of FinCEN may redelegate any authority vested in the Director to an officer or employee of an agency other than the Treasury Department, when authorized by law.

10. Ratification. Any action heretofore taken that is consistent with this Order is hereby affirmed and ratified.

11. Other Bureaus' Authorities. This Order does not affect the authorities of the Commissioner of Customs and the Commissioner of Internal Revenue under Treasury Directive 15-23, “Bank Secrecy Act—U.S. Customs Service” and Treasury Directive 15-41, “Bank Secrecy Act—Internal Revenue Service,” or under successor issuances to those Directives.

12. Cancellations.

a. Treasury Order 105-08, “Establishment of the Financial Crimes Enforcement Network”, dated April 25, 1990, is superseded.

b. Treasury Directive 15-01, “Bank Secrecy Act Regulations,” dated December 1, 1992, is canceled;

c. The “Delegation of Authority to the Director of the Financial Crimes Enforcement Network,” signed by the Assistant Secretary (Enforcement), dated May 13, 1994, is canceled;

d. All existing Treasury Orders and Directives shall be read in a manner that is consistent with FinCEN's status as a bureau and the authorities vested in the Director of FinCEN as described in this Order.

13. Authorities.

a. Public Law 107-56, Uniting and Strengthening America by Providing Appropriate Tools Required to Intercept and Obstruct Terrorism (USA PATRIOT Act) Act of 2001, October 26, 2001, Pub. L. 107-56, Title III, Subtitle B, Section 361(a)(2), 115 Stat. 272, 329-332, codified in relevant part at 31 U.S.C. 310(b).

b. 31 U.S.C. 321(b).

14. Office of Primary Interest. Director, Financial Crimes Enforcement Network.

Paul H. O'Neill,
Secretary of the Treasury.

[FR Doc. 02-26656 Filed 10-18-02; 8:45 am]

BILLING CODE 4810-25-P